DEPARTMENT OF COMMERCE

National Oceanic and Atmospheric Administration

RIN 0648-XD663

Taking and Importing Marine Mammals; Taking Marine Mammals Incidental to Fisheries Research

AGENCY: National Marine Fisheries Service (NMFS), National Oceanic and Atmospheric Administration (NOAA), Commerce.

ACTION: Notice; receipt of application for letter of authorization; request for comments and information.

SUMMARY: NMFS' Office of Protected Resources has received a request from the NMFS Northeast Fisheries Science Center (NEFSC) for authorization to take small numbers of marine mammals incidental to conducting fisheries research, over the course of five years from the date of issuance. Pursuant to regulations implementing the Marine Mammal Protection Act (MMPA), NMFS is announcing receipt of the NEFSC's request under section 101(a)(5)(A) of the MMPA for the development and implementation of regulations governing the incidental taking of marine mammals. NMFS invites the public to provide information, suggestions, and comments on the NEFSC's application and request.

DATES: Comments and information must be received no later than January 28, 2015.

ADDRESSES: Comments on the application should be addressed to Jolie Harrison, Chief, Permits and Conservation Division, Office of Protected Resources, National Marine Fisheries Service, 1315 East-West Highway, Silver Spring, MD 20910-3225. The mailbox address for providing email comments is ITP.Cody@noaa.gov. You must include 0648-XD663 in the subject line. NMFS is not responsible for email comments sent to addresses other than the one provided here. Comments sent via email, including all attachments, must not exceed a 25-megabyte file size.

Instructions: All submitted comments are a part of the public record and NMFS will post them to http://www.nmfs.noaa.gov/pr/permits/incidental/research.htm without change. All Personal Identifying Information (for example, name, address, etc.) voluntarily submitted by the commenter may be publicly accessible. Do not submit confidential business information or otherwise sensitive or protected information.

FOR FURTHER INFORMATION CONTACT: Jeannine Cody, Office of Protected Resources, NMFS, (301) 427-8401.

SUPPLEMENTARY INFORMATION:

Availability

An electronic copy of the NEFSC's application may be obtained by visiting the Internet at: http://www.nmfs.noaa.gov/pr/permits/incidental/research.htm. The NEFSC is concurrently releasing a draft Environmental Assessment, prepared pursuant to requirements of the National Environmental Policy Act, for the conduct of their fisheries research. A copy of the draft EA, which would also support our proposed rulemaking under the MMPA, is also available at: http://nefsc.noaa.gov/rcb/dpea/.

Background

Section 101(a)(5)(A) of the MMPA (16 U.S.C. 1361 et seq.) directs the Secretary of Commerce (Secretary) to allow, upon request, the incidental, but not intentional, taking of small numbers of marine mammals by U.S. citizens who engage in a specified activity (other than commercial fishing) if certain findings are made and regulations are issued.

Incidental taking shall be allowed if NMFS finds that the taking will have a negligible impact on the species or stock(s) affected and will not have an unmitigable adverse impact on the availability of the species or stock(s) for taking for subsistence uses, and if the permissible methods of taking and requirements pertaining to the mitigation, monitoring and reporting of such taking are set forth.

NMFS has defined “negligible impact” in 50 CFR 216.103 as “an impact resulting from the specified activity that cannot be reasonably expected to, and is not reasonably likely to, adversely affect the species or stock through effects on annual rates of recruitment or survival.” Except with respect to certain activities not pertinent here, the MMPA defines “harassment” as: “Any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].”

Summary of Request

On December 17, 2014, NMFS received an application from the NEFSC requesting authorization for take of marine mammals incidental to fisheries research conducted by the NEFSC. The requested regulations would be valid for five years from the date of issuance. The NEFSC plans to conduct fisheries research surveys in the Atlantic Ocean from the U.S.-Canada border to Florida. It is possible that marine mammals may interact with fishing gear (e.g., bottom and pelagic trawls, dredges, video cameras, long lines, and gillnets) used in NEFSC's fisheries research and cooperative research projects, resulting in injury, serious injury, or mortality. In addition, the NEFSC operates active acoustic devices that have the potential to disturb marine mammals. Because the specified activities have the potential to take marine mammals present within these action areas, the NEFSC requests authorization to take multiple species of marine mammal that may occur in these areas.

Specified Activities

The Federal Government has a responsibility to conserve and protect living marine resources in U.S. federal waters and has also entered into a number of international agreements and treaties related to the management of living marine resources in international waters outside the United States. NOAA has the primary responsibility for managing marine fin and shellfish species and their habitats, with that responsibility delegated within NOAA to NMFS.

In order to direct and coordinate the collection of scientific information needed to make informed management decisions, Congress created six Regional Fisheries Science Centers, each a distinct organizational entity and the scientific focal point within NMFS for region-based federal fisheries-related research. This research is aimed at monitoring fish stock recruitment, abundance, survival and biological rates, geographic distribution of species and stocks, ecosystem process changes, and marine ecological research. The NEFSC is the research arm of NMFS in the Greater Atlantic Region. The NEFSC conducts research and provides scientific advice to manage fisheries and conserve protected species in two geographic research areas: Occurs in the Northeast U.S. Continental Shelf LME but also occurs in the Southeast U.S.

Continental Shelf LME and Adjacent Offshore Areas

Research is aimed at monitoring fish stock recruitment, survival and biological rates, abundance and geographic distribution of species and stocks, and providing other scientific information needed to improve our understanding of complex marine ecological processes. Primary research activities include: Bottom trawl surveys to support assessments of multiple groundfish and shrimp species as well as the status of benthic habitats, pelagic trawl surveys to assess Atlantic herring and Atlantic salmon stocks, dredge and video camera surveys to assess scallop stocks and habitat recovery, longline and gillnet surveys to research life history parameters and abundance of numerous shark species, and extensive cooperative research projects designed to address current or emerging information needs of the commercial fishing industry such as bycatch reduction efforts and development of new fisheries. Many research activities also include active acoustic systems, plankton nets, and other oceanographic equipment that provide important data on the status and trends of marine ecosystems important for various fisheries and natural resource management processes. The NEFSC proposes to administer and conduct these survey programs over the five-year period. Several of these surveys also use active acoustic devices.

A more detailed description of the fisheries research conducted by the NEFSC may be found in their application, which is available at: http://www.nmfs.noaa.gov/pr/permits/incidental/research.htm.

Information Solicited

Interested persons may submit information, suggestions, and comments concerning the NEFSC's request (see ADDRESSES). NMFS will consider all information, suggestions, and comments related to the request during the development of proposed regulations governing the incidental taking of marine mammals by the NEFSC, if appropriate.

Dated: December 22, 2014.
Donna S. Wieting,
Director, Office of Protected Resources, National Marine Fisheries Service.

[FR Doc. 2014-30349 Filed 12-22-14; 4:15 pm]

BILLING CODE 3510-22-P